DEPARTMENT OF ENERGY

Federal Energy Regulatory Commission

Notice of Transfer of License and Soliciting Comments, Motions To Intervene, and Protests

August 29, 2001.

Take notice that the following hydroelectric application has been filed with the Commission and is available for public inspection:

a. Application Type: Transfer of License.

b. Project No.: 3574-016.

c. Date Filed: August 14, 2001.

d. Applicants: Continental Hydro Corporation (Transferor) and Tiber Montana, LLC (Transferee).

e. Name of Project: Tiber Dam.

f. Location: The proposed project is located at the U.S. Bureau of Reclamation's Tiber Dam, on the Marias River in Liberty County, Montana.

g. Filed Pursuant to: Federal Power Act, 16 U.S.C. 791(a)-825(r).

h. Applicants Contact: Ted S. Sorenson, Manager, Tiber Montana, L.L.C., 5203 South 11th East, Idaho Falls, Idaho 83404, (208) 522-8069.

i. FERC Contact: Elizabeth Jones, (202) 218-0246.

j. Deadline for filing comments or motions: September 28, 2001.

All documents (original and eight copies) should be filed with: David P. Boergers, Secretary, Federal Energy Regulatory Commission, 888 First Street, N. E., Washington, DC 20426. Comments, protests and interventions may be filed electronically via the Internet in lieu of paper. See, 18 CFR 385.2001(a)(1)(iii) and the instructions on the Commission's web site under the “e-Filing” link.

Please include the Project Number (3574-016) on any comments or motions filed.

k. Description of Transfer: Continental Hydro Corporation requests approval to transfer its licensee to Tiber Montana, L.L.C. Under the transfer agreement between Continental Hydro and Tiber Montana, L.L.C., Tiber Montana, L.L.C. will acquire the project license, subject to Commission approval, and accept the terms and conditions of the license.

l. Location of the Application: Copies of this filing are on file with the Commission and are available for public inspection. Copies of this filing are on file with the Commission and are available for public inspection. This filing may also be viewed on the web at http://www.ferc.gov using the “RIMS” link, select “Docket#” and follow the instructions (call 202-208-2222 for assistance). A copy is also available for inspection and reproduction at the address in item h above.

m. Individuals desiring to be included on the Commission's mailing list should so indicate by writing to the Secretary of the Commission.

n. Comments, Protests, or Motions to Intervene—-Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—-Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—-Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-22229 Filed 9-4-01; 8:45 am]

BILLING CODE 6717-01-P